ENVIRONMENTAL PROTECTION AGENCY

40 CFR Parts 72, 73, 74, 77, and 78

[EPA-HQ-OAR-2008-0774; FRL-8786-8]

RIN 2060-AP35

Rulemaking To Reaffirm the Promulgation of Revisions of the Acid Rain Program Rules

AGENCY: Environmental Protection Agency (EPA).

ACTION: Withdrawal of direct final rule.

SUMMARY: Because EPA received an adverse comment, EPA is withdrawing the direct final rule for “Rulemaking to Reaffirm the Promulgation of Revisions of the Acid Rain Program Rules,” which was published in the Federal Register on December 15, 2008.

DATES: Effective March 26, 2009, EPA withdraws the direct final rule published at 73 FR 75954 on December 15, 2008.

FOR FURTHER INFORMATION CONTACT: Dwight C. Alpern, Clean Air Markets Division, U.S. Environmental Protection Agency, Clean Air Markets Division, Mailcode: 6204J, Ariel Rios Building, 1200 Pennsylvania Ave., NW., Washington, DC 20460, telephone (202) 343-9151, e-mail at alpern.dwight@epa.gov.

SUPPLEMENTARY INFORMATION: Because EPA received an adverse comment, EPA is withdrawing the direct final rule for “Rulemaking to Reaffirm the Promulgation of Revisions of the Acid Rain Program Rules,” which was published on December 15, 2008 (73 FR 75954).

EPA stated in that direct final rule that if EPA received adverse comment by January 29, 2009, the direct final rule would not take effect and EPA would publish a timely withdrawal of the direct final rule in the Federal Register. EPA subsequently received an adverse comment on the direct final rule.

Because EPA received an adverse comment, EPA is withdrawing the direct final rule for “Rulemaking to Reaffirm the Promulgation of Revisions of the Acid Rain Program Rules.” As stated in the parallel proposed rule (73 FR 75983) published on the same day as the direct final rule, EPA will not institute a second comment period in this proceeding concerning the Acid Rain Program rule revisions addressed in the direct final and parallel proposed rules. EPA will address the adverse comment on the direct final rule in a subsequent final rule based on the parallel proposed rule.

The revisions of the Acid Rain Program rules whose promulgation EPA proposed to reaffirm in the parallel proposed rule were described in detail, along with EPA's reasons for such reaffirmation, in the interim final rule (73 FR 75959) that was published on the same day as the direct final and that reaffirmed—on an interim basis pending final action in this proceeding—the promulgation of the Acid Rain Program rule revisions. EPA notes that it is not withdrawing the interim final rule.

List of Subjects in 40 CFR Parts 72, 73, 74, 77, and 78

Environmental protection, Acid rain, Administrative practice and procedure, Air pollution control, Electric utilities, Intergovernmental relations, Reporting and recordkeeping requirements, Sulfur oxides.

Dated: March 19, 2009.
Elizabeth Craig,
Acting Assistant Administrator.

Accordingly, the direct final rule published in the Federal Register on December 15, 2008 (73 FR 75954) is withdrawn as of March 26, 2009.

[FR Doc. E9-6764 Filed 3-25-09; 8:45 am]

BILLING CODE 6560-50-P